DEPARTMENT OF ENERGY

Federal Energy Regulatory Commission

[Docket Nos. ER01-1047-001, ER01-1074-001, ER01-1090-001, ER01-1144-001, and EL02-11-000]

Central Maine Power Company; Notice of Initiation of Proceeding and Refund Effective Date

October 31, 2001.

Take notice that on October 26, 2001, the Commission issued an order in the above-indicated dockets initiating a proceeding in Docket No. EL02-11-000 under section 206 of the Federal Power Act.

The refund effective date in Docket No. EL02-11-000 will be 60 days after publication of this notice in the Federal Register.

David P. Boergers,
Secretary.

[FR Doc. 01-27770 Filed 11-5-01; 8:45 am]

BILLING CODE 6717-01-M